SECURITIES AND EXCHANGE COMMISSION

Sunshine Act Meeting

Notice is hereby given, pursuant to the provisions of the Government in the Sunshine Act, Public Law 94-409, that the Joint CFTC-SEC Advisory Committee on Emerging Regulatory Issues (see also Pub. L. 111-117, Section 621) will hold an Open Meeting on Monday, May 24, 2010, in the Auditorium, L-002.

The meeting will begin at 9 a.m. and will be open to the public, with seating on a first-come, first-served basis. Doors will open at 8:30 a.m. Visitors will be subject to security checks. This Sunshine Act notice is being issued because a majority of the Commission may attend the meeting.

The agenda for the meeting includes: (i) Opening remarks; (ii) the introduction of Committee members, (iii) discussion of Committee agenda and organization; (iv) discussion of the Joint CFTC-SEC report on the market events of May 6, 2010; and (v) discussion of next steps and closing comments.

For further information, please contact the Office of the Secretary at (202) 551-5400.

Dated: May 17, 2010.
Florence E. Harmon,
Deputy Secretary.

[FR Doc. 2010-12228 Filed 5-18-10; 4:15 pm]

BILLING CODE 8011-01-P